DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Redistricting Data Program.

OMB Control Number: 0607-XXXX.

Form Number(s): N/A.

Type of Request: Regular Submission.

Number of Respondents: 416.

FY 2016: 156.

FY 2017: 52.

FY 2018: 156.

FY 2019: 52.

Average Hours per Response: Varies.

Average Time per Response Phase 1:

Block Boundary Suggestion Project (BBSP) Annotation: 124 hours.

BBSP Verification: 62 hours.

Average Time per Response Phase 2:

Voting District Project (VTDP) Delineation: 248 hours.

VTDP Verification: 124 hours.

Average Time per Response Phase 4:

115th Congressional Districts (CDs) & State Legislative Districts (SLDs) Collection: 2 hours.

115th CDs & SLDs Verification: 2 hours.

116th CDs & SLDs Collection: 2 hours.

116th CDs & SLDs Verification: 2 hours.

Burden Hours: 29,432 (All Phases, All FYs).

FY 2016 Burden Hours: 6,656.

FY 2017 Burden Hours: 3,224.

FY 2018 Burden Hours: 13,104.

FY 2019 Burden Hours: 6,448.

Burden Hours Phase 1:

BBSP Annotation (FY 2016): 6,448 hours.

BBSP Verification (FY 2017): 3,224 hours.

Phase 1 Total Burden Hours: 9,672 hours.

Burden Hours Phase 2:

VTD Delineation (FY 2018): 12,896 hours.

VTD Verification (FY 2019): 6,448 hours.

Phase 2 Total Burden Hours: 19,344 hours.

Burden Hours Phase 4:

115th CDs & SLDs Collection (FY 2016): 104 hours.

115th CDs & SLDs Verification (FY 2016): 104 hours.

116th CDs & SLDs Collection (FY 2018): 104 hours.

116th CDs & SLDs Verification (FY 2018): 104 hours.

Phase 4 Total Burden Hours: 416 hours.

Needs and Uses: The mission of the Geography Division (GEO) within the U.S. Census Bureau is to plan, coordinate, and administer all geographic and cartographic activities needed to facilitate Census Bureau statistical programs throughout the United States and its territories. GEO manages programs that continuously update features, boundaries, addresses, and geographic entities in the Master Address File/Topologically Integrated Geographic Encoding and Referencing (MAF/TIGER) System. GEO, also, conducts research into geographic concepts, methods, and standards needed to facilitate Census Bureau data collection and dissemination programs.

The Census Bureau is requesting a new collection to cover the five phases of the Redistricting Data Program (RDP) that was originally part of the Geographic Partnership Programs (GPPs) generic clearance. The Census Bureau requests a three-year clearance and a project specific OMB Control Number for RDP. GEO is creating a separate clearance for this critical program. A project specific clearance allows the Census Bureau to provide RDP specific materials, burden hours, and procedures. The need to only provide RDP materials ensures the program phases are uninterrupted by other program clearances unrelated to RDP. The RDP specific clearance provides flexibility in the timing, allowing the program to establish the schedule for RDP clearance needs and renewal.

Under the provisions of Title 13, Section 141(c) of the United States Code (U.S.C.), the Secretary of Commerce (Secretary) is required to provide the “officers or public bodies having initial responsibility for the legislative apportionment or districting of each state . . .” with the opportunity to specify geographic areas (e.g., voting districts) for which they wish to receive Decennial Census population counts for the purpose of reapportionment or redistricting.

By April 1 of the year following the Decennial Census, the Secretary is required to furnish the state officials or their designees with population counts for American Indian areas (AIAs), counties, cities, census blocks, and state-specified congressional, legislative, and voting districts.

The Census Bureau has issued an invitation to the officers or public bodies having initial responsibility for legislative reapportionment and redistricting, through the Census Redistricting and Voting Rights Data Office (CRVRDO), inviting states to identify a non-partisan liaison that will work directly with the Census Bureau on the 2020 Census RDP.

Since the 1990 Census, participation in the Census RDP BBSP and VTDP, 2020 Census RDP Phases 1 and 2 under Title 13, U.S.C., is voluntary on the part of each state. However, if states choose not to participate in Phase 1 and Phase 2, the Census Bureau cannot ensure that the 2020 Decennial Census tabulation geography will support the redistricting needs of their state.

The RDP invites respondent participation in the following phases of the program:

Phase 1: BBSP

The purpose of the BBSP is to afford states the opportunity to identify non-standard Features often used as electoral boundaries (such as a power line or stream, rather than a street centerline, which might divide voters on different sides of a street into two districts) as Census block boundaries. The BBSP option affords the state liaison the opportunity to provide suggestions for 2020 Census tabulation block boundaries, resulting in more meaningful block data for the state. Liaisons are able to work with local officials including county election officers and others to ensure local geography is represented in the 2020 Census tabulation block inventory. In addition, the liaison, on behalf of the state, will make suggestions for features not desirable as census tabulation blocks. By identifying undesirable features, the liaison may assist the Census Bureau in reducing the overall number of census tabulation blocks from the 2010 inventory. Beginning in late fall of 2015, states that choose to participate in Phase 1 will begin receiving guidelines and training for providing their suggestions for the 2020 Census tabulation blocks, as well as their suggestions for exclusion of line segments, for consideration in the final 2020 Census tabulation block inventory. For the first time, states will have the opportunity to review legal limits, such as county and incorporated place boundaries, as reported through the Boundary and Annexation Survey (BAS). The Census Bureau conducts the BAS annually to update information about the legal boundaries and names of all governmental units. The alignment of the BAS with the BBSP will facilitate the cooperation between state and local government. A verification phase will occur in early 2017.

Phase 2: VTDP

The VTDP will provide the state liaison, on behalf of the state, to submit the voting Districts (a generic term used to represent areas that administer elections such as precincts, election districts, wards, etc.) to the Census Bureau for representation in the 2020 Census Public Law 94-171 products (data and geographic products). Beginning in late 2017, states that choose to participate in VTDP will receive on a flow basis, geographic products that allow them the opportunity to update the Voting Districts (VTDs) for inclusion in the 2020 Census tabulation geography. State liaisons will continue to align their effort with updates from state and local government officials participating in the BAS. The VTD/BAS update and alignment will continue through spring of 2018. A verification phase will occur in early 2019 for states that participated in VTDP.

Phase 3: Delivery of the 2020 Decennial Census Redistricting Data

By April 1, 2021, the Director of the Census Bureau will, in accordance with Title 13, U.S.C., furnish the Governor and state legislative leaders, both the majority and minority, with 2020 Census population counts for standard census tabulation areas (e.g., state, Congressional district, state legislative district, AIA, county, city, town, census tract, census block group, and census block) regardless of a state's participation in Phase 1 or 2. The Director of the Census Bureau will provide 2020 Census population counts for those states participating in Phase 2, for both the standard tabulation areas and for VTDs. For each state, this delivery will occur prior to general release and no later than April 1, 2021.

Phase 4: Collection of Post-Census Redistricting Data Plans

The Census Bureau requests from every state, the newly drawn Legislative and Congressional district plans and prepares appropriate data sets based on new districts. Between the 2010 Census and the 2020 Census, the effort began in 2011 using the 2010 Census as a baseline. Beginning in 2021, the Census Bureau will use the 2020 Census as a baseline. This effort will occur every two years in advance of the next Census in order to update these boundaries with new or changed plans. A verification phase will occur with each update.

Phase 5: Review of the 2020 Census RDP and Recommendations for the 2030 Census RDP

As the final phase of the 2020 Census RDP, the Census Bureau will work with the states to conduct a thorough review of the RDP. The intent of this review, and the final report that results, is to provide guidance to the Secretary and the Census Bureau Director in planning the 2030 Census RDP.

Affected Public: All fifty states, the District of Columbia, and the Commonwealth of Puerto Rico.

Frequency: Annually.

Respondent's Obligation: Voluntary.

Legal Authority: Title 13, U.S.C., Sections 16, 141, and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: October 8, 2015.
Glenna Mickelson,
Management Analyst, Office of the Chief Information Officer.

[FR Doc. 2015-26127 Filed 10-14-15; 8:45 am]

BILLING CODE 3510-07-P